INTERNATIONAL TRADE COMMISSION

[Investigation No. 332-525]

Remanufactured Goods: An Overview of the U.S. and Global Industries, Markets, and Trade; Change in Start Time of Public Hearing

AGENCY: United States International Trade Commission.

ACTION: Notice.

SUMMARY: Following receipt of a request dated and received June 28, 2011 from the U.S. Trade Representative (USTR) under section 332(g) of the Tariff Act of 1930 (19 U.S.C. 1332(g)), the U.S. International Trade Commission (Commission) instituted investigation No. 332-525, Remanufactured Goods: An Overview of the U.S. and Global Industries, Markets, and Trade (76 FR 44606).

Public Hearing: In order to facilitate the hearing in Inv. No. 332-525, the Commission has determined to change the start time of the public hearing to 9:00 a.m., February 28, 2012, at the U.S. International Trade Commission Building, 500 E Street SW., Washington, DC.

FOR FURTHER INFORMATION CONTACT: Project Leader Alan Treat (202-205-3426 or alan.treat@usitc.gov), Deputy Project Leader Jeremy Wise (202-205-3190 or jeremy.wise@usitc.gov), or Hearings and Meetings Coordinator Bill Bishop (202-205-2595 or william.bishop@usitc.gov) for information. The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Issued: February 16, 2012.
By order of the Commission.
James R. Holbein,
Secretary to the Commission.

[FR Doc. 2012-4262 Filed 2-23-12; 8:45 am]

BILLING CODE 7020-02-P